DEPARTMENT OF JUSTICE

Notice of Consent Judgment Pursuant to the Clean Air Act

In accordance with Departmental Policy, 28 CFR 50.7, 38 FR 19029, notice is hereby given that a proposed consent decree in United States v. Rymes Heating Oils, Inc. and James Rymes, DOJ #90-5-2-1-06111, Civ. No. 00-453-B, was lodged in the United States District Court for the District of New Hampshire on September 19, 2000. The consent decree resoles the liability of defendants Rymes Heating Oils and James Rymes under section 211 of the Clean Air Act (“CAA”), 42 U.S.C. 7545, and regulations promulgated thereunder, for violations of statutory and regulatory requirements pertaining to the use of reformulated gasoline and low-sulfur motor vehicle diesel fuel.

Under the terms of the proposed consent decree, defendants are obligated, jointly and severally, to pay $200,000 as a civil penalty to the Government for their violations of the CAA and regulations. Additionally, defendants certify that they are in compliance with he CAA and regulations pertaining to fuels, and they agree to comply in the future with those provisions.

The Department of Justice will receive, for a period of thirty (30) days from the date of this publication, written comments relating to the proposed consent decree. Comments should be addressed to the Assistant Attorney general for the Environment and Natural Resources Division, Department of Justice, Washington, D.C. 20530, and should refer to United States v. Rymes Heating Oils, Inc. and James Rymes, DOJ #90-5-2-1-06111. The proposed Consent Decree may be examined at the Office of the United States Attorney, District of New Hampshire, 55 Pleasant Street—Room 312, Concord, New Hampshire 03301; and at the Region I Office of the U.S. Environmental Protection Agency, One Congress Street, Suite 1100—RCA, Boston, Massachusetts 02114-2023. Copies of the Consent Decree may be obtained by mail from the Justice Department Consent Decree Library, P.O. Box 7611 Ben Franklin Station, Washington, DC 20044, (202) 514-1547. In requesting a copy, please enclose a check in the amount of $4.00 (25 cents per page reproduction costs) payable to the Consent Decree Library.

Bruce Gelber,
Environmental Enforcement Section, Environment and Natural Resources, Division.

[FR Doc. 00-27529 Filed 10-25-00; 8:45 am]

BILLING CODE 4410-15-M